DEPARTMENT OF COMMERCE

National Oceanic and Atmospheric Administration

[RTID 0648-XV160]

Western Pacific Fishery Management Council; Public Meeting

AGENCY: National Marine Fisheries Service (NMFS), National Oceanic and Atmospheric Administration (NOAA), Commerce.

ACTION: Notice of a public meeting.

SUMMARY: The Western Pacific Fishery Management Council (Council) will hold an Archipelagic Plan Team (APT) meeting to discuss and make recommendations on fishery management issues in the Western Pacific Region.

DATES: The APT will meet on Thursday, January 23, 2020, between 1 p.m. and 5 p.m., Hawaii Standard Time. For specific times and agendas, see SUPPLEMENTARY INFORMATION.

ADDRESSES: The APT meeting will be held at the Council office, 1164 Bishop St. Suite 1400, Honolulu, HI 96813 and by teleconference and webinar. The teleconference will be conducted by telephone and by web. The teleconference numbers are U.S. toll-free: 1-888-482-3560 or International Access: +1 647 723-3959, and Access Code: 5228220. The webinar can be accessed at: https://wprfmc.webex.com/join/info.wpcouncilnoaa.gov.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the APT Meeting

Thursday, January 23, 1 p.m.-5 p.m.

1. Welcome and Introductions

2. Approval of Draft Agenda & Assignment of Rapporteurs

3. Interim Measure for the American Samoa Bottomfish Fishery

4. Potential Reclassification of the Territory Bottomfish Management Unit Species (BMUS) Complex

5. Options to the BMUS in the American Samoa and Marianas Fishery Ecosystem Plan (Action Item)

6. Revisions to the Archipelagic Stock Assessment and Fishery Evaluation Reports

7. P-Star and SEEM Analysis for the Marianas Bottomfish Fishery

8. Updates to the Data Collection Projects

A. Marianas Shark Depredation

B. Small Boat Electronic Reporting

9. Public Comment

10. Other Business

11. Plan Team Discussion and Recommendations

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: December 23, 2019.
Tracey L. Thompson,
Acting Deputy Director, Office of Sustainable Fisheries, National Marine Fisheries Service.

[FR Doc. 2019-28197 Filed 12-30-19; 8:45 am]

BILLING CODE 3510-22-P